NATIONAL CREDIT UNION ADMINISTRATION

Proposed Agency Information Collection Activities; Comment Request

AGENCY: National Credit Union Administration (NCUA).

ACTION: Notice and request for comment.

SUMMARY: The NCUA has approved the publication of a proposal to revise and extend for three years the NCUA Call Report (Form 5300), which is a currently approved information collection, for public comment. The NCUA is submitting the following extension and revision of the currently approved information collection to the OMB for review and clearance. The revisions are proposed to take effect with the March 31, 2025 report date.

DATES: Comments must be received on or before November 15, 2024.

ADDRESSES: You may submit written comments on the information collection by any of the following methods:

Federal Register Portal: https://www.federalregister.gov. Find this information collection by searching for “National Credit Union Administration”, then selecting “Past 90 days”, and scrolling through the list of documents.

Regulations.gov: https://www.regulations.gov/search?filter=ncua Find this information collection by scrolling through the search results and looking for NCUA Call Report 2025-Q1.

Rulemakings and Proposals for Comment: https://ncua.gov/regulation-supervision/rulemakings-proposals-comment NCUA will post a link to the regulations.gov web page where you can submit a comment by selecting Comment.

Mail: 1775 Duke Street, Suite 5067, Alexandria, Virginia 22314.

Fax: 703-519-8161.

Email: PRAComments@NCUA.gov.

Instructions: All submissions must be identified by the OMB Control Number 3133-0004 or by Document Number (Please send comments by one method only).

FOR FURTHER INFORMATION CONTACT: Copies of the submission may be obtained by contacting Dacia Rogers at (703) 718-1155. You may also view the entire information collection request at www.reginfo.gov. Enhanced content is also available from the Notice on the Federal Register website (www.federalregister.gov). In addition, copies of the Call Report Form and Instructions can be obtained at the NCUA's website (https://ncua.gov/regulation-supervision/regulatory-reporting/cuonline).

SUPPLEMENTARY INFORMATION: The NCUA proposes to extend for three years, with revision, the NCUA Form 5300 Call Report.

OMB Number: 3133-0004.

Title: NCUA Form 5300 Call Report.

Type of Review: Revision and extension of a currently approved collection.

Abstract: Sections 106 and 202 of the Federal Credit Union Act require federally insured credit unions (FICUs) to make financial and other reports to the NCUA. Section 741.5 prescribes the method in which federally insured credit unions must submit this information to NCUA. NCUA Form 5300, Call Report, is used to file quarterly financial and statistical data through NCUA's online portal, CUOnline. The financial and statistical information is essential to NCUA in carrying out its responsibility for supervising federal credit unions. This information facilitates NCUA monitoring of credit unions with share accounts insured by the National Credit Union Share Insurance Fund (NCUSIF).

Affected Public: Private sector: Not-for-profit institutions.

Respondents: All federally insured credit unions.

Estimated Number of Respondents: 4,533.

Estimated Average Burden per Response: 4.0 hours.

Estimated Total Annual Burden Hours: 72,528.

Reason for Change: The number of respondents decreased.

The proposed revisions to the Form 5300 instructions in this notice would not have a material impact on the existing burden estimates.

Legal Basis and Need for Collections: The Call Report Form 5300 information collections are mandatory under 12 U.S.C. 1756, 1766, and 1782. Except for select sensitive items, the Call Report Form 5300 is not given confidential treatment.

Credit union data reported on the Call Report is essential to the NCUA supervision and regulation of federal credit unions. This information also facilitates the NCUA monitoring of other credit unions with share accounts insured by the National Credit Union Share Insurance Fund.

Credit unions submit Call Report data to the NCUA quarterly. Call Report data serve a regulatory or public policy purpose by assisting the NCUA in fulfilling its mission of ensuring the safety and soundness of individual credit unions and the credit union system, protecting consumer financial rights, as well as agency-specific missions affecting federal and state-chartered credit unions, such as ensuring financial stability and administering share insurance.

Form 5300—Call Report—Proposed Changes

Schedule A, Section 4

(1) Adding two accounts for credit unions to report the number and amount of loans granted to credit union officials and senior executive staff year-to-date. This information will enhance NCUA's offsite supervision.

(2) Removing two accounts for credit unions to report information related to Purchased Credit Impaired Loans. These accounts are no longer required to be disclosed by generally accepted accounting principles.

Schedule C, Section 4

(1) Removing three accounts where credit unions previously reported information related to FRB Paycheck Protection Program Lending Facility loans. The Paycheck Protection Program Lending Facility is no longer available.

(2) Adding one account for credit unions to report assets pledged to secure deposits, other funding arrangements, and other counterparty requirements. Adding this information will provide insight into the amount of total pledged assets and the availability of unencumbered assets to secure future borrowings.

Schedule D, Section 2

(1) Adding three accounts for credit unions to report the number and amount of member brokered non-maturity shares. NCUA will use this information to evaluate funding behavior and market trends.

(2) Adding five accounts for credit unions to report the number and amount of member brokered term shares by remaining maturity. NCUA will use this information to evaluate funding behavior and market trends.

(3) Adding three accounts for credit unions to report the number and amount of nonmember brokered non-maturity deposits. NCUA will use this information to evaluate funding behavior and market trends.

(4) Adding five accounts for credit unions to report the number and amount of nonmember brokered term deposits by remaining maturity. NCUA will use this information to evaluate funding behavior and market trends.

(5) Adding five accounts for credit unions to report the number and amount of all other nonmember deposits by remaining maturity. Adding this information will enable a more complete assessment of nonmember deposits.

(6) Changed the caption for “Accounts held by nonmember public units” to “Nonmember Public Unit Deposits”.

(7) Added an account for the amount of Nonmember Credit Union Deposits. NCUA will use this information to evaluate compliance with nonmember deposit regulatory requirements.

(8) Changed the caption for “Accounts Held by Member Public Units” to “Member Public Unit Deposits”.

(9) Added an account for credit unions to report the amount of Reciprocal Deposits. NCUA will use this information to evaluate funding behavior and market trends as competition for deposits continues to innovate.

Schedule D, Section 3

(1) Added three accounts for credit unions to report the maturity distribution of total uninsured shares and deposits. NCUA will use this information to evaluate depositor behavior and the movement between uninsured non-maturity shares and share certificates.

Request for Comment: Comments submitted in response to this notice will be summarized and included in the request for Office of Management and Budget approval. All comments will become a matter of public record. The public is invited to submit comments concerning: (a) whether the proposed revisions to the collection of information that are the subject of this notice are necessary for the proper performance of the function of the agency, including whether the information will have practical utility; (b) the accuracy of the agency's estimate of the burden of the collection of information as proposed to be revised, including the validity of the methodology and assumptions used; (c) ways to enhance the quality, utility, and clarity of the information to be collected; and (d) ways to minimize the burden of the collection of information on the respondents, including the use of automated collection techniques or other forms of information technology.

By the National Credit Union Administration Board.
Melane Conyers-Ausbrooks,
Secretary of the Board.

[FR Doc. 2024-20985 Filed 9-13-24; 8:45 am]

BILLING CODE 7535-01-P